COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products that were furnished by nonprofit agencies employing persons who are blind or have other severe disabilities.

Comments Must be Received on or Before: 4/9/2017.

ADDRESSES: Committee for Purchase From People Who Are Blind or Severely Disabled, 1401 S. Clark Street, Suite 715, Arlington, Virginia, 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s):

6515-00-NIB-8077—Gloves, Surgical, Powdered, Tradition, White, Size 5.5

6515-00-NIB-8078—Gloves, Surgical, Powdered, Tradition, White, Size 6.0

6515-00-NIB-8079—Gloves, Surgical, Powdered, Tradition, White, Size 6.5

6515-00-NIB-8080—Gloves, Surgical, Powdered, Tradition, White, Size 7.0

6515-00-NIB-8081—Gloves, Surgical, Powdered, Tradition, White, Size 7.5

6515-00-NIB-8082—Gloves, Surgical, Powdered, Tradition, White, Size 8.0

6515-00-NIB-8083—Gloves, Surgical, Powdered, Tradition, White, Size 8.5

6515-00-NIB-8084—Gloves, Surgical, Powdered, Tradition, White, Size 9.0

Mandatory Source(s) of Supply: Bosma Industries for the Blind, Inc., Indianapolis, IN

Contracting Activity: Department of Veterans Affairs, Strategic Acquisition Center

NSN(s)—Product Name(s): 7045-01-599-5297—Anti-Glare Display Shield, iPad

Mandatory Source(s) of Supply: Wiscraft, Inc., Milwaukee, WI

Contracting Activity: General Services Administration, New York, NY

NSN(s)—Product Name(s):

8415-00-NSH-1421—Undershirt, Mock Turtle Lightweight, Cold Weather-C/Coyote (USMC)

8415-00-NSH-1422—Undershirt, Mock Turtle Lightweight, Cold Weather-C/Coyote (USMC)

8415-00-NSH-1423—Undershirt, Mock Turtle Lightweight, Cold Weather-C/Coyote (USMC)

8415-00-NSH-1424—Undershirt, Mock Turtle Lightweight, Cold Weather-C/Coyote (USMC)

8415-00-NSH-1425—Undershirt, Mock Turtle Lightweight, Cold Weather-C/Coyote (USMC)

8415-00-NSH-1426—Undershirt, Mock Turtle Lightweight, Cold Weather-C/Coyote (USMC)

8415-00-NSH-1427—Undershirt, Mock Turtle Lightweight, Cold Weather-C/Coyote (USMC)

8415-00-NSH-1428—Shirt, ½ Zip Pullover, 100 wt C/Coyote (USMC)

8415-00-NSH-1429—Shirt, ½ Zip Pullover, 100 wt C/Coyote (USMC)

8415-00-NSH-1430—Shirt, ½ Zip Pullover, 100 wt C/Coyote (USMC)

8415-00-NSH-1431—Shirt, ½ Zip Pullover, 100 wt C/Coyote (USMC)

8415-00-NSH-1432—Shirt, ½ Zip Pullover, 100 wt C/Coyote (USMC)

8415-00-NSH-1433—Shirt, ½ Zip Pullover, 100 wt C/Coyote (USMC)

8415-00-NSH-1434—Shirt, ½ Zip Pullover, 100 wt C/Coyote (USMC)

8415-00-NSH-1658—Drawers, Lightweight Cold Weather-C/Coyote (USMC)

8415-00-NSH-1659—Drawers, Lightweight Cold Weather-C/Coyote (USMC)

8415-00-NSH-1660—Drawers, Lightweight Cold Weather-C/Coyote (USMC)

8415-00-NSH-1661—Drawers, Lightweight Cold Weather-C/Coyote (USMC)

8415-00-NSH-1662—Drawers, Lightweight Cold Weather-C/Coyote (USMC)

8415-00-NSH-1663—Drawers, Lightweight Cold Weather-C/Coyote (USMC)

8415-00-NSH-1664—Drawers, Lightweight Cold Weather-C/Coyote (USMC)

8415-00-NSH-1665—Drawers, Midweight Cold Weather-C/Coyote (MSMC)

8415-00-NSH-1666—Drawers, Midweight Cold Weather-C/Coyote (MSMC)

8415-00-NSH-1667—Drawers, Midweight Cold Weather-C/Coyote (MSMC)

8415-00-NSH-1668—Drawers, Midweight Cold Weather-C/Coyote (MSMC)

8415-00-NSH-1669—Drawers, Midweight Cold Weather-C/Coyote (MSMC)

8415-00-NSH-1670—Drawers, Midweight Cold Weather-C/Coyote (MSMC)

8415-00-NSH-1671—Drawers, Midweight Cold Weather-C/Coyote (MSMC)

Mandatory Source(s) of Supply: Peckham Vocational Industries, Inc., Lansing, MI

Contracting Activity: W40M Northern Region Contract Ofc

Amy B. Jensen,
Director, Business Operations.

[FR Doc. 2017-04763 Filed 3-9-17; 8:45 am]

BILLING CODE 6353-01-P